DEPARTMENT OF COMMERCE

National Oceanic and Atmospheric Administration

[I.D. 030305B]

Notice of Intent to Hold Public Information Meetings on a Draft Environmental Impact Statement and Conservation Plan

AGENCY: National Marine Fisheries Service (NMFS), National Ocranic and Atmospheric Administration (NOAA), Commerce.

ACTION: Notice of Intent to hold public information meetings.

SUMMARY: Notice is hereby given pursuant to the National Environmental Policy Act, as amended (NEPA), that the National Marine Fisheries Service and the Fish and Wildlife Service (known hereafter as the Services) intend to hold public information meetings on a Draft Environmental Impact Statement (DEIS) and Conservation Plan for forest practices in the State of Washington. These documents were announced in the Federal Register for a 90-day public comment period. Representatives from the Services and the State of Washington will be at the public information meetings to answer questions about the documents and to provide further information to interested parties.

DATES: See SUPPLEMENTARY INFORMATION section for meeting dates.

ADDRESSES: See SUPPLEMENTARY INFORMATION section for meeting locations.

FOR FURTHER INFORMATION CONTACT: Sally Butts, (360) 753-5832.

SUPPLEMENTARY INFORMATION: Written public comments will be accepted at the public information meetings. Attendees may submit prior written comments at the public meetings, or a blank form will be available for attendees to write comments during the meetings. Please see the Federal Register for standard, electronic, and facsimile contact information to submit written public comments if not attending one of the public information meetings The public information meetings will be held from 4 p.m. 7p.m., or until business is concluded. The public information meeting dates and locations are:

March 28, 2005, Red Lion Hotel, Port Angeles, WA.

March 29, 2005, Squalicum Boat House, Bellingham, WA.

March 30, 2005, Sheraton Hotel, Seattle, WA.

April 4, 2005, Red Lion Hotel, Kelso, WA.

April 5, 2005, Gwinwood Christian Conference Grounds and Westwood Retreat Center, Olympia, WA.

April 6, 2005, Red Lion Yakima Center, Yakima, WA.

April 12, 2005, Double Tree Hotel, Spokane, WA.

April 13, 2005, Ag and Trade Center, Colville, WA.

Any changes to meeting times or locations will be noted on the State of Washington's Department of Natural Resources Forest Practices Habitat Conservation Plan (Federal Assurances Program) website, http://www.dnr.wa.gov/htdocs/agency/federalassurances/.

Dated: March 4, 2005.
Maria Boroja,
Acting Chief, Endangered Species Division, Office of Protected Resources, National Marine Fisheries Service.

[FR Doc. 05-4755 Filed 3-9-05; 8:45 am]

BILLING CODE 3510-22-S